ENVIRONMENTAL PROTECTION AGENCY

[EPA-HQ-OLEM-2023-0228, FRL-10820-02-OLEM]

Draft National Strategy To Prevent Plastic Pollution: Extension of Comment Period

AGENCY: Environmental Protection Agency (EPA).

ACTION: Notice of availability; extension of comment period.

SUMMARY: The Environmental Protection Agency (EPA) is extending the comment period for the Draft National Strategy to Prevent Plastic Pollution, which can be found at https://www.epa.gov/circulareconomy/draft-national-strategy-prevent-plastic-pollution. The EPA published the Notice of Availability in the Federal Register on May 2, 2023, and the public comment period was scheduled to end on June 16, 2023. However, the EPA has received several requests for additional time to develop and submit comments. In response to the request for additional time, the EPA is extending the comment period for an additional 45 days through July 31, 2023.

DATES: The comment period for the Draft National Strategy to Prevent Plastic Pollution published on May 2, 2023 at 88 FR 27502, is extended. Comments must be received on or before July 31, 2023.

ADDRESSES: To review the Draft National Strategy to Prevent Plastic Pollution, please visit https://www.epa.gov/circulareconomy/draft-national-strategy-prevent-plastic-pollution. Submit your comments, referencing Docket ID No. EPA-HQ-OLEM-2023-0228. Comments submitted in response to this notice may be submitted through the following:

• Federal eRulemaking Portal: Go to https://www.regulations.gov. Follow the online instructions for submitting comments.

Once submitted, comments cannot be edited or removed from Regulations.gov. EPA may publish any comment received to its public docket. Do not submit electronically any information you consider to be Confidential Business Information (CBI) or other information whose disclosure is restricted by statute. Multimedia submissions (audio, video, etc.) must be accompanied by a written comment. For additional submission methods, the full EPA public comment policy, information about CBI or multimedia submissions, and general guidance on making effective comments, please visit: https://www.epa.gov/dockets/commenting-epa-dockets.

Instructions: All submissions received must include the Docket ID No. OLEM-2023-0228 for this notice. Comments received may be posted without change to https://www.regulations.gov/, including any personal information provided. For detailed instructions on sending comments and additional information on the Request for Information process, see the “Public Participation” heading of the SUPPLEMENTARY INFORMATION section of this document.

FOR FURTHER INFORMATION CONTACT: For questions concerning this document, contact Tameka Taylor at 202-564-1510, Resource Conservation and Sustainability Division, Office of Resource Conservation and Recovery, Office of Land and Emergency Management, Mail Code 5306T, Environmental Protection Agency, 1200 Pennsylvania Avenue NW, Washington, DC 20004; Email: CircularPlastics@epa.gov. For more information on this strategy and others developed as part of EPA's Series on Building a Circular Economy for All, please visit https://www.epa.gov/circular-economy.

SUPPLEMENTARY INFORMATION:

I. Public Participation

Response to this request for public comment is voluntary. Submit your comments, identified by Docket ID No. EPA-HQ-OLEM-2023-0228, at https://www.regulations.gov/ (our preferred method), or the other methods identified in the ADDRESSES section. Once submitted, comments cannot be edited or removed from the docket. The EPA may publish any comment received to its public docket. Responses to this request for public comment may be submitted by a single party or a team. Responses will only be accepted using Microsoft Word (.docx) or Adobe PDF (.pdf) file formats. The response document should contain the following:

• Two clearly delineated sections: (1) Cover page with company name and contact information; and (2) responses by topic and/or that address specific EPA questions.

• 1-inch margins (top, bottom, and sides).

• Times New Roman and 12-point font.

Comments containing references, studies, research, and other empirical data that are not widely published should include copies or electronic links to the referenced materials. Do not submit to EPA's docket at https://www.regulations.gov/ any information you consider to be Confidential Business Information (CBI), Proprietary Business Information (PBI), or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). Please visit: https://www.epa.gov/dockets/commenting-epa-dockets for additional submission methods; the full EPA public comment policy; information about CBI, PBI, or multimedia submissions; and general guidance on making effective comments. No confidential and/or business proprietary information, copyrighted information, or personally identifiable information should be submitted in response to this notice.

Privacy Note: All comments received from members of the public will be available for public viewing on Regulations.gov. In accordance with FAR 15.202(3), responses to this notice are not offers and cannot be accepted by the Federal Government to form a binding contract. Additionally, those submitting responses are solely responsible for all expenses associated with response preparation.

II. General Information

A. What is the purpose of this request for public comment?

Section 301 of the Save our Seas 2.0 Act charges EPA, in consultation with stakeholders, with developing a strategy to improve post-consumer materials management and infrastructure to reduce plastic waste and other post-consumer materials in waterways and oceans. The Draft National Strategy to Prevent Plastic Pollution, satisfies Congress' direction to EPA in section 301 of the Save Our Seas 2.0 Act to develop a strategy to improve post-consumer materials management and infrastructure for the purpose of reducing plastic waste and other post-consumer materials in waterways and oceans. EPA's National Recycling Strategy was published in November 2021 and primarily focuses on enhancing and advancing the national municipal solid waste recycling system, including plastic products in municipal solid waste. This strategy, the Draft National Strategy to Prevent Plastic Pollution, builds upon the National Recycling Strategy by focusing on actions to reduce, reuse, collect, and capture plastic waste.

The Draft National Strategy to Prevent Plastic Pollution, provides voluntary actions that can be implemented in the United States aimed at eliminating the release of plastic waste from land-based sources into the environment by 2040. This is a domestic strategy that identifies strategic objectives and voluntary actions where EPA can work collaboratively with U.S. stakeholders to prevent plastic pollution and reduce, reuse, collect, and capture plastic and other waste from land-based sources. The proposed actions under each objective create opportunities to shift from a linear approach in plastic materials management to a more circular system that is restorative or regenerative by design, enables resources to maintain their highest value for as long as possible, and aims for the elimination of waste. Sea-based sources are not in the scope of this strategy.

With input from stakeholders, EPA has identified three draft objectives for the strategy: (A) Reduce Pollution During Plastic Production; (B) Improve post-use materials management; and (C) Prevent trash and microplastics from entering waterways and remove escaped trash from the environment. The proposed actions under each objective support the United States' shift to a circular approach that is restorative or regenerative by design, enables resources to maintain their highest value for as long as possible, and aims to eliminate waste in the management of plastic products. EPA is seeking information about the objectives and voluntary actions identified in this draft strategy. Public comments will inform the Agency's efforts to finalize the strategy and further work with stakeholders to implement actions to reduce plastic waste and other post-consumer materials in waterways and oceans. This Notice follows in sequence, a previous public comment period for the EPA's National Recycling Strategy, which collectively satisfies the charge given to EPA by Congress under the SOS 2.0 Act.

III. Request for Information

In November 2021, EPA held multiple stakeholder feedback sessions with Federal agencies, states, territories, tribes, industry, and non-profit organizations to inform the development of this strategy. Between November 2021 and July 2022, EPA hosted virtual meetings across the country with interested stakeholders to inform the development of new grant programs established by the Infrastructure Investment and Jobs Act, which further informed the development of this strategy. This Notice and any future notices aim to supplement stakeholder engagement sessions and, provide all interested individuals and organizations with the opportunity to offer valuable input on the voluntary actions identified in this strategy. In addition to receiving general feedback on the draft strategy, EPA is interested in receiving feedback on the following:

• Which actions are the most important and would have the greatest positive impact at the local, regional, national, and global level?

○ Which actions can best protect human health and environmental quality?

○ Which actions are most important to address environmental justice and climate change?

○ What are the key steps and milestones necessary to successfully implement the actions in the draft strategy?

• What are the most important roles and/or actions for Federal agencies to lead?

• Is your organization willing to lead an action or collaborate with others to implement actions?

○ What factors would your organization consider when determining whether to lead an action?

• What are potential unintended consequences of the proposed actions that could impact communities considered overburdened or vulnerable, such as shifts in production or management methods?

• What are the key metrics and indicators that EPA should use to measure progress in reducing plastic and other waste in waterways and oceans?

• What criteria should processes other than mechanical recycling meet to be considered “recycling activities” (e.g., “plastics-to-plastics outputs are `recycling' if the output is a product that could again be recycled into another product or to extent that it can achieve viable feedstock for new plastic materials”)? How should health and environmental impacts be considered in these criteria?

• Are there other actions that should be included in this strategy?

○ Should EPA expand the scope of the strategy to include sea-based sources?

○ Should specific types of plastic products be targeted for reduction or reuse in this strategy?

• Do you have any additional information or recommendations for EPA regarding these or other proposed actions in this draft strategy?

IV. Disclaimer and Important Note

This request for public comment is issued solely for information, research and planning purposes and does not constitute a Request for Proposals (RFP) or a Request for Applications (RFA). Responding to this notice will not give any advantage to or preclude any organization or individual in any subsequently issued solicitation, RFP, or RFA. Any future development activities related to this activity will be announced separately. This notice does not represent any award commitment on the part of the U.S. Government, nor does it obligate the Government to pay for costs incurred in the preparation and submission of any responses.

Dated: June 8, 2023.
Carolyn Hoskinson,
Director, Office of Resource Conservation and Recovery.

[FR Doc. 2023-12684 Filed 6-13-23; 8:45 am]

BILLING CODE 6560-50-P